DEPARTMENT OF AGRICULTURE

Agricultural Marketing Service

7 CFR Part 915

[Docket No. FV06-915-1 C]

Marketing Order Regulating the Handling of Avocados Grown In South Florida; Florida Avocado Maturity Requirements; Correction

AGENCY: Agricultural Marketing Service, USDA.

ACTION: Correcting amendment.

SUMMARY: The Agricultural Marketing Service (AMS) is making a correction to the section of the Code of Federal Regulations which specifies maturity requirements for avocados grown in South Florida. The D date for the Meya variety of avocados is listed incorrectly.

DATES: Effective Date: March 8, 2006.

FOR FURTHER INFORMATION CONTACT: William G. Pimental, Marketing Specialist, Southeast Marketing Field Office, Marketing Order Administration Branch, Fruit and Vegetable Programs, AMS, USDA; Telephone: (863) 324-3375; Fax: (863) 325-8793; or George Kelhart, Technical Advisor, Marketing Order Administration Branch, Fruit and Vegetable Programs, AMS, USDA, 1400 Independence Avenue SW., STOP 0237, Washington, DC 20250-0237; Telephone: (202) 720-2491, Fax: (202) 720-8938.

SUPPLEMENTARY INFORMATION:

Background

AMS discovered an error in a maturity date in § 915.332 of the codified regulations. A final rule published in the Federal Register on June 16, 1994 (59 FR 30869), inserted specific calendar dates into Table 1 of § 915.332(a)(2), regulating the maturity for avocados grown in South Florida. The D date of the Meya variety was inadvertently published as “1-89” when it should have been “1-09'.

Need for Correction

A maturity date for Meya variety avocados in Marketing Order 915, Avocados Grown in South Florida, is incorrect and needs to be changed. In Table 1 of § 915.332(a)(2), the date should be “1-09”, but the date appears as “1-89”. This correction document corrects that mistake.

List of Subjects in 7 CFR Part 915

Avocados, Marketing agreements, Reporting and recordkeeping requirements.

Accordingly, 7 CFR part 915 is corrected by making the following amendment:

PART 915—AVOCADOS GROWN IN SOUTH FLORIDA

1. The authority citation for 7 CFR part 915 continues to read as follows:

Authority: 7 U.S.C. 601-674.

§ 915.332 [Corrected]

2. In § 915.332, Table 1, the entry for Meya (P) is corrected by revising the date appearing in the “D date” column to read “1-09”.

Dated: February 28, 2006.
Lloyd C. Day,
Administrator, Agricultural Marketing Service.

[FR Doc. 06-2118 Filed 3-6-06; 8:45 am]

BILLING CODE 3410-02-P